DEPARTMENT OF DEFENSE

Department of the Army, Corps of Engineers

Intent To Prepare a Draft Environmental Impact Statement for the Houston Ship Channel 45-Foot Expansion Channel Improvement Project (HSC ECIP), Harris and Chambers Counties, Texas

AGENCY: Department of the Army, U.S. Army Corps of Engineers, DoD.

ACTION: Notice of intent.

SUMMARY: The U.S. Army Corps of Engineers (USACE) intends to prepare an environmental impact statement (EIS) for the Houston Ship Channel 45-Foot Expansion Channel Improvement Project (HSC ECIP), Harris and Chambers Counties, Texas.

This study will identify and evaluate a combination of modifications to the HSC to improve the efficiency and safety of the HSC system. A 905(b) report recommending a cost shared feasibility-level study was approved on September 22, 2015.

DATES: See SUPPLEMENTARY INFORMATION section for scoping meeting dates.

FOR FURTHER INFORMATION CONTACT: Questions concerning the draft EIS should be addressed to Ms. Tammy Gilmore, CEMVN-PDN-CEP, P.O. Box 60267, New Orleans, LA 70160-0267; telephone: (504) 862-1002; fax: (504) 862-1583; or by email: tammy.h.gilmore@usace.army.mil.

SUPPLEMENTARY INFORMATION: 1. Authority. Public Law 91-611; Title II—Flood Control Act of 1970, Section 216 dated December 31, 1970. The study is being performed in response to the standing authority of Section 216 of the Flood Control Act of 1970, as amended.

2. Proposed Action. In general, the entire HSC will be evaluated for up to date current and projected vessel size and traffic. The study focus will include deepening and widening opportunities of the upper reach of the HSC referred to as Boggy Bayou to the Main Turning Basin; improvements to side channels, Bayport Ship Channel and Barbour's Cut Channel; and Galveston Bay Reach safety and efficiency enhancements. Details of the study include the following 5 separable elements:

HSC—Boggy Bayou to I-610 Bridge: This analysis would evaluate deepening and widening the 8-mile portion of the HSC from Boggy Bayou to the Interstate 610 Bridge (mile 40 to mile 48) to a depth beyond the existing 40 feet (Boggy Bayou to Sims Bayou) and a width greater than the existing 300 feet (in 50-foot increments) and possibly improvements to turning basin and mooring areas.

HSC—I-610 Bridge to Main Turning Basin: This analysis would evaluate the deepening and widening of the 4-mile portion of the HSC from the Interstate I-610 Bridge to the Main Turning Basin (mile 48 to mile 52) to a depth beyond the existing 36 feet (in 2-foot increments), a new turning basin near Brays Bayou, and revisit dimensions of existing turning basins and mooring areas.

Bayport Ship Channel: The 4.1 mile long Bayport Ship Channel is currently authorized to a depth of 40 feet. The Port of Houston Authority (PHA) has the authority under 33 U.S.C. Section 408 to deepen the channel to 45 feet and widen the bay portions of the channel 100 feet and widen the constricted portion of the channel within the land cut 50 feet. This analysis would evaluate whether to include the PHA's channel deepening for Federal authorization. The analysis would also evaluate widening to a width greater than 350 feet (25-foot increments). Other opportunities in this area are to evaluate the need for open water turning basin, and adding jetty/structures for minimizing shoaling and flare improvements.

Barbours Cut Channel: The 1.1 mile long Barbour's Cut Channel is currently authorized to a depth of 40 feet. The PHA has the authority, under 33 U.S.C. Section 408, to deepen the channel to 45 feet. This analysis would evaluate whether to include the PHA's channel deepening for Federal authorization. The analysis would also evaluate widening to a width greater than 300 feet (25-foot increments). Other opportunities in this area are to evaluate the need for open water turning basin and flare improvements.

Bay-reach safety and efficiency enhancements: This analysis would evaluate whether to construct an anchorage basin in or near Galveston Bay, the need of selectively widening the existing 530 feet wide HSC to develop passing lanes or improved vessel meeting opportunities; evaluate improvements to channel turns and bends; and evaluate the depth of the existing barge lanes.

3. Public Involvement. Public involvement, an essential part of the NEPA process, is integral to assessing the environmental consequences of the proposed action and improving the quality of the environmental decision making. The public includes affected and interested Federal, state, and local agencies, Indian tribes, concerned citizens, stakeholders, and other interested parties. Public participation in the EIS process will be strongly encouraged, both formally and informally, to enhance the probability of a more technically accurate, economically feasible, and socially acceptable EIS. Public involvement will include, but is not limited to: Information dissemination; identification of problems, needs and opportunities; idea generation; public education; problem solving; providing feedback on proposals; evaluation of alternatives; conflict resolution; public and scoping notices and meetings; public, stakeholder and advisory groups consultation and meetings; and making the EIS and supporting information readily available in conveniently located places, such as libraries and on the world wide web.

4. Scoping. Scoping, an early and open process for identifying the scope of significant issues related to the proposed action to be addressed in the EIS, will be used to: (a) Identify the affected public and agency concerns; (b) facilitate an efficient EIS preparation process; (c) define the issues and alternatives that will be examined in detail in the EIS; and (d) save time in the overall process by helping to ensure that the draft EIS adequately addresses relevant issues. A Scoping Meeting Notice announcing the locations, dates and times for scoping meetings is anticipated to be posted on the PHA and U.S. Army Corps of Engineers Web sites and published in the local newspaper in April 2016.

5. Coordination. The USACE and the U.S. Fish and Wildlife Service (USFWS) have formally committed to work together to conserve, protect, and restore fish and wildlife resources while ensuring environmental sustainability of our Nation's water resources under the January 22, 2003, Partnership Agreement for Water Resources and Fish and Wildlife. The USFWS will provide a Fish and Wildlife Coordination Act Report. Coordination will be maintained with the USFWS, the National Marine Fisheries Service (NMFS) and the Texas Park and Wildlife Department (TPWD) regarding threatened and endangered species under their respective jurisdictional responsibilities. Coordination will be maintained with the NMFS regarding essential fish habitat. Coordination will be maintained with the U.S. Environmental Protection Agency concerning compliance with Executive Order 12898, “Federal Action to Address Environmental Justice in Minority Populations and Low-Income Populations.” Coordination will be maintained with the Advisory Counsel on Historic Preservation and the State Historic Preservation Office. Coordination will be maintained with the U.S. Coast Guard (USCG) to assure no interruption with navigation. Coordination will be maintained with the Texas Department of Transportation (TXDOT) to assure limited interruption to highway traffic. The Texas Commission on Environmental Quality (TCEQ) will be coordinated with to obtain Water Quality Certification. The Texas General Land Office (GLO) will be coordinated with on coastal management.

5. Availability of Draft EIS. The earliest that the draft EIS will be available for public review would be in 2017. The draft EIS or a notice of availability will be distributed to affected Federal, state, and local agencies, Indian tribes, and other interested parties.

Dated: March 21, 2016.
Richard P. Pannell,
Colonel, U.S. Army, Commanding.

[FR Doc. 2016-07061 Filed 3-28-16; 8:45 am]

BILLING CODE 3720-58-P